DEPARTMENT OF ENERGY

Federal Energy Regulatory Commission

[Docket Nos. ER02-303-000]

Williams Energy Marketing & Trading Company; Notice of Filing

November 15, 2001.

Take notice that on November 13, 2001, Williams Energy Marketing & Trading Company (Williams EM&T) tendered for filing with the Federal Energy Regulatory Commission (Commission) pursuant to section 205 of the Federal Power Act (FPA), 16 U.S.C. 824d (1994), and part 35 of the Commission's Regulations, 18 CFR part 35, revised pages to the Reliability Must-Run Service Agreements (RMR Agreements) between Williams EM&T and the California Independent System Operator Corporation (ISO) for certain RMR units located at the Alamitos and, Huntington Beach Generating Stations.

The purpose of the filing is to update Williams EM&T's existing RMR Agreements to reflect an extension of the two existing RMR Agreements and certain annual updates to Schedules A, B, D and J of the RMR Agreements. Copies of the filing were served upon the ISO and Southern California Edison Company.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before December 4, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

David P. Boergers,
Secretary.

[FR Doc. 01-29240 Filed 11-21-01; 8:45 am]

BILLING CODE 6717-01-P